DEPARTMENT OF LABOR

Employment and Training Administration

North American Free Trade Agreement—Transitional Adjustment Assistance Program: General Administration Letter Interpreting Federal Law

The Employment and Training Administration interprets Federal law requirements pertaining to the North American Free Trade Agreement—Transitional Adjustment Assistance (NAFTA—TAA). These interpretations are issued in General Administration Letters (GALs) to the State Workforce Agencies. Several GALs were inadvertently omitted from publication in the Federal Register by a previous Administration. In order to correct these omissions, the GALs described below are published in the Federal Register in order to inform the public.

GAL 7-94, Change 1, Change 2, and Change 3 to amend operating instructions issued in GAL 7-94 that address applicant processing procedures for workers certified as eligible to apply for benefits under both subchapters A (the regular TAA program), and D (the NAFTA-TAA program), of Chapter II, Title II of the Trade Act of 1974, as amended.

GAL 7-94, Change 1

Changes to the TAA program operating instructions in GAL 7-94, Change 1 focus on revising operating instructions to the States pertaining to nonduplication of assistance, allowing workers eligible for both NAFTA-TAA and regular TAA programs to make a one-time change in program participation in cases where certification for a second Trade program occurs after the worker has begun to receive benefits under the other Trade program. States are also encouraged to implement applicant tracking and reporting procedures that will ensure States' compliance and allow the States to evaluate Trade program effectiveness.

GAL 7-94, Change 2

Changes to the TAA program operating instructions in GAL 7-94, Change 2 focus on amended operating instructions to the State Agencies in regard to making individual eligibility determinations for Trade Readjustment Allowance (TRA) benefits under the NAFTA-TAA program. These new instructions implement the United States District Court for the District of Columbia preliminary approval, pending a hearing for class members, of a settlement of Baker v. Reich between the Department of Labor and the United Auto Workers Union (UAW).

GAL 7-94, Change 3

This GAL provides for States use of NAFTA-TAA program funds for dual eligible workers that opt for TAA, in order to provide training, job search and relocation services in cases where regular Trade program funds are not available (either the State does not have funds in its regular Trade account or has not received requested regular Trade funds from the National Office).

Dated: October 6, 2004.
Emily Stover DeRocco,
Assistant Secretary for Employment and Training.

U.S. Department of Labor, Employment and Training Administration, Washington, DC 20210

Classification: TAA.

Correspondence Symbol: TWT.

Issue Date: March 29, 1996.

Expiration Date: March 31, 1997.

Rescissions: None.

Directive: General Administration Letter No. 07-94, Change 1.

To: All State Employment Security Agencies.

From: Barbara Ann Farmer, Administrator for Regional Management.

Subject: Trade Adjustment Assistance (TAA) Program Revised Applicant Processing Procedures.

1. Purpose. To amend operating instructions issued in GAL 7-94 that address applicant processing procedures for workers certified as eligible to apply for benefits under both subchapters A (the regular TAA program), and D (the NAFTA-TAA program), of Chapter II, Title II of the Trade Act of 1974, as amended.

2. References. The Trade Act of 1974, as amended; Title V of the North American Free Trade Agreement Implementation Act (Pub. L. 103-182), 20 CFR part 617; GAL 6-94; and GAL 7-94.

3. Background. The Trade Adjustment Assistance program provides reemployment services, including training, job search and relocation allowances and trade readjustment allowances (TRA) to individuals whose unemployment is linked to increased imports, or, in the case of the NAFTA-TAA program, to a shift in production to Mexico or Canada. Chapter II, Title II of the Trade Act of 1974, as amended, requires the Secretary of Labor to implement and carry out the specified worker adjustment assistance provisions. The Secretary has executed agreements with each State to administer adjustment services.

In response to inquiries from the States, this GAL contains amended Employment and Training Administration (ETA) operating instructions for the States. It requires States to provide every dual eligible worker (that is, a worker whose separation is covered by certifications under both the regular and NAFTA-TAA programs), at the point where they become eligible under the second Trade program, with the information necessary to make a fully informed choice regarding the Trade program under which they wish to permanently participate.

4. Nonduplication of Assistance. Section 249A (19 U.S.C. 2322) of the Trade Act of 1974, as amended, addresses nonduplication of assistance:

No worker may receive assistance relating to a separation pursuant to certifications under both subchapters A and D of this chapter.

The intent of this section is to prevent a worker from receiving duplicate benefits under both the regular TAA and NAFTA-TAA programs.

General Administration Letter (GAL) 7-94 contains operating instructions to State agencies for implementing the amendments to the Trade Act contained in the NAFTA Implementation Act. GAL 7-94, page 16 contains instructions pertinent to the “Non-duplication of Assistance” provision of the Law. The “Administration” portion of this instruction states:

This new section is intended to eliminate duplication of assistance and benefits to a worker in situations where a worker group is certified concurrently for both regular TAA and NAFTA-TAA. These situations should be uncommon. However, should this occur, the worker will be provided benefits under one or the other certification. The worker is to make the decision regarding which certification will apply. Once a decision is made by the worker, it cannot be changed. Also, State agency staff must explain the difference between programs so workers can make an informed choice.

5. Revised Operating Instructions. The instructions to the States pertaining to Nonduplication of Assistance are revised to read as follows:

The intent of this section is to prevent duplication of assistance to workers who are eligible to receive assistance pursuant to certifications issued under both the regular and NAFTA-TAA programs (dual eligible workers). In order to fairly administer this section, State agency staff must fully explain the difference between programs to dual eligible workers. This will assure that the affected workers are provided with the ability to make a completely informed choice regarding the application of benefits under both programs. A dual eligible worker who has entered, or is otherwise receiving benefits under one program, may elect to switch after being certified as eligible to apply under the second program. Under such circumstances, the State may allow the worker's benefits to continue to be paid by the first program until the first convenient break in training as determined by the State. This approach is currently used with Trade eligible workers who are also enrolled under the Job Training Partnership Act (JTPA) Title III program. In order to minimize the administrative burden on the States, once a decision is made by the worker after becoming eligible for the second program, it may not be changed. This election will also stand in the case of a subsequent separation covered by the same two certifications.

6. Applicant Processing. States are encouraged to implement applicant tracking and reporting procedures that will ensure States' compliance with these instructions and allow the States to evaluate Trade program effectiveness.

Section 225 (19 U.S.C. 2275) of the Trade Act requires that workers be provided with full information about benefits. Therefore, when workers become certified as eligible to apply for benefits under the second program, Trade staff are to fully explain the difference between the programs so that workers can make a completely informed choice as to the program under which the workers elect to receive benefits. States are to counsel workers who are receiving benefits under one program and later become eligible to receive benefits under a second certification. States are to determine the workers' choice of the program under which they wish to permanently participate within 15 working days from the date the second certification is signed by the National Office. Workers are also to be clearly informed about eligibility requirements for TRA under both programs. Once the worker has made a decision it may not be changed. This election will also stand in the case of a subsequent separation covered by the same two certifications.

A change from one program to the other can never result in increasing the amount of benefits for training, job search, and relocation allowances that a claimant may receive. However, some claimants may become eligible for TRA by changing from the NAFTA-TAA program to the regular program. The reason for this is that the regular program does not require, as a condition of eligibility for TRA, that a worker enter a training program within a fixed period. In any event, such claimants would never be entitled to more than one full round of TRA benefits on the basis of the two certifications.

In order to minimize the administrative burden on the States, when a worker receiving benefits under one program elects to switch after becoming eligible for the second program, the State may, as is current practice with Trade eligible workers who are dual enrolled under the JTPA Title III program, allow the workers' benefits to continue to be paid by the first program until the first convenient break (e.g., the end of a semester/quarter) in training as determined by the State.

Since the Trade program will often depend upon the local Job Service office staff to “counsel” a claimant to choose between NAFTA and regular Trade benefits, written instructions are to be provided by the State to all local Office staff who counsel trade applicants. The instructions provided by the State must continue to encourage workers to enter training as quickly as possible after they are initially certified as eligible to receive benefits, regardless of which program they are certified under.

7. Action Required. States are required to implement the revised administrative procedures for ensuring non-duplication of assistance as set forth in this document as of April 1, 1996. States are advised to inform all appropriate State staff of the contents of this document and ensure that staff have the management information system (MIS) capability to effectively track and report on benefits and services provided to dual eligible workers to avoid duplication of services.

8. Inquiries. States are to direct all inquiries to the appropriate ETA Regional Office.

U.S. Department of Labor, Employment and Training Administration Washington, DC 20210

Classification: TAA.

Correspondence Symbol: TWT.

Issue Date: October 23, 1996.

Expiration Date: October 31, 1997.

Rescissions: None.

Directive: General Administration Letter No. 07-94, Change 2.

To: All State Employment Security Agencies.

From: Barbara Ann Farmer, Administrator for Regional Management.

Subject: Trade Adjustment Assistance (TAA) Program Revised Applicant Processing Procedures.

1. Purpose. To amend operating instructions issued in GAL 7-94 that address applicant processing procedures for workers certified as eligible to apply for benefits under both subchapters A (the regular TAA program), and D (the North American Free Trade Agreement-Transitional Adjustment Assistance (NAFTA-TAA) program), of Chapter II, Title II of the Trade Act of 1974, as amended.

2. References. The Trade Act of 1974, as amended; Title V of the North American Free Trade Agreement Implementation Act (Pub. L. 103-182), 20 CFR part 617; GAL 6-94; and GAL 7-94.

3. Background. General Administration Letter (GAL) 7-94 contains operating instructions to State agencies for implementing the amendments to the Trade Act contained in the NAFTA Implementation Act. This Change 2 contains amended operating instructions to the State Agencies in regard to making individual eligibility determinations for Trade Readjustment Allowance (TRA) benefits under the NAFTA-TAA program. These new instructions implement the United States District Court for the District of Columbia preliminary approval, pending a hearing for class members, of a settlement of Baker v. Reich between the Department of Labor and the United Auto Workers Union (UAW).

Pursuant to the Court decision and order issued on June 11, 1996, the settlement approved on September 9, 1996 bars the use of the current NAFTA-TAA definition, as set forth in GAL 7-94, of “initial unemployment compensation benefit period” currently employed by State Agencies in determining applicants' eligibility for TRA benefits under the NAFTA-TAA program.

In accordance with this settlement, this GAL also contains Employment and Training Administration (ETA) operating instructions for the States for providing relief for workers who were incorrectly denied, or who otherwise incorrectly did not receive, TRA benefits under the prior definition.

4. Trade Readjustment Allowances—Previous Operating Instructions. GAL 7-94, page 13, contains instructions pertinent to the “Trade Readjustment Allowances” provision of the NAFTA Implementation Act. These instructions address TRA as follows:

To qualify for TRA payments, an eligible worker must be enrolled in a training program approved by the later of—

i. The last day of the 16th week of such worker's initial unemployment compensation benefit period, or

ii. The last day of the 6th week after the week in which the Secretary of Labor issues a certification covering such worker.

Application of time periods. The 16-week time requirement for enrolling in training in order to qualify for TRA will be applied literally. In order to be eligible to receive TRA under a NAFTA-TAA certification, the worker must be enrolled in an approved training program by the end of the 16th week of that worker's initial unemployment compensation benefit period.

This fixed 16-week period begins with the effective date of the claim and ends with the last day of the 16th week thereafter. Included in this 16-week fixed period are weeks of waiting period credit, weeks of disqualification, weeks of employment, and weeks of unemployment.

Initial unemployment compensation benefit period means the same as the term “first benefit period” defined at 20 CFR 617.3(r). “First benefit period” means the benefit period established after the individual's first qualifying separation or in which such separation occurs.

5. Trade Readjustment Allowances—Revised Operating Instructions. The instructions to the States pertaining to TRA are revised to read as follows:

To qualify for TRA payments, an eligible worker must be enrolled in a training program approved by the later of—

i. The last day of the 16th week of such worker's initial unemployment compensation benefit period, or

ii. The last day of the 6th week after the week in which the Secretary of Labor issues a certification covering such worker.

Section 250(d)(3)(B) of the Trade Act provides for a 30-day extension of these deadlines in case of extenuating circumstances.

Application of time periods. The 16-week time requirement for enrolling in training in order to qualify for TRA will be applied as set forth below. In order to be eligible to receive TRA benefits under a NAFTA-TAA certification, the worker must be enrolled in an approved training program by the end of the 16th week of that worker's “initial unemployment compensation benefit period”.

This 16-week period begins with the first day of the first calendar week following the worker's most recent qualifying separation and ends with the last day of the 15th consecutive calendar week thereafter. Included in this 16-week period are weeks of waiting period credit, weeks of disqualification, weeks of employment, and weeks of unemployment.

Initial unemployment compensation benefit period means the period beginning with the first week following a worker's most recent qualifying separation due to import competition from or production shift to Canada or Mexico. This term is not the same as the term “first benefit period” defined at 20 CFR 617.3(r).

6. Retroactive Relief. In order to provide relief for all workers incorrectly denied TRA benefits, or who would not have qualified for benefits, under GAL 7-94, the States will implement the following actions:

a. Each State NAFTA-TAA coordinator must compile a list of all workers who, since the inception of the NAFTA-TAA program, had qualifying separations from employment for NAFTA-related reasons and who were denied or otherwise did not receive TRA benefits under either the NAFTA-TAA program or the regular TAA program (i.e., dual certified) for the same qualifying separation. (The State need not include on the list anyone determined ineligible for TRA benefits under the NAFTA-TAA program for reasons other than the State's application of the original definition of “initial unemployment compensation benefit period”.)

b. State NAFTA—TAA coordinators must then notify, no later than November 22, 1996, all the workers on the list (at their last known address), that as a result of the U.S. District Court's action, they may now be eligible to receive TRA benefits under the NAFTA-TAA program if they enroll in TAA-approved training, or receive basic TRA if they have already completed training that is TAA approved.

c. The notification sent to the workers must include the attached Court documents which include instructions for claimants to contact their local Employment Service office by April 15, 1997, for a determination or redetermination of their individual eligibility for training assistance and TRA benefits under the NAFTA-TAA program. Upon request, the worker notifications, including the Court documents, must be supplied to a claimant in Spanish or other languages.

d. States must also inform affected local labor unions and State and local central labor bodies of the settlement and of their members' rights to pursue a claim for TRA benefits.

e. Finally, the States must publish, in the same manner as notices of Certification under the NAFTA-TAA program are published, the attached (or similar) press notice about the settlement in newspapers of general circulation. In order to inform as many eligible workers as possible of the right to receive a determination or redetermination of individual eligibility for training and TRA under the NAFTA-TAA program, States must also make this information available to television and post it on the Internet (where available).

7. Eligibility Determinations and Redeterminations. In order to provide retroactive relief under the settlement, States must provide eligibility determinations or redeterminations to workers who were previously denied, or who would not have qualified for, TRA benefits under the NAFTA-TAA program based upon the prior definition of “initial unemployment compensation benefit period”. An individual need not have previously filed a claim to be eligible for retroactive relief under this settlement. Workers determined eligible for TRA benefits under the terms of the settlement must be advised that they have 16 weeks, from the date the eligibility determination or redetermination was made by the State, to enroll in a TAA-approved training program, if they have not previously completed one. (In the event that appropriate training is not scheduled to begin within 30 days of the expiration of the 16-week period, a claimant will be permitted to take advantage of the 30-day extension period provided in Section 250(d)(3)(B) of the Trade Act.) Under the settlement, the States' calculation of the 104-week training period in 20 CFR 617.22(f)(2) begins with the worker's first day of training and the 104-week eligibility period for TRA begins with the first week following the week that the eligibility determination or redetermination for TRA was made.

The 210-day rule under 19 U.S.C. 2293(b) is not applicable to individuals seeking retroactive relief under this settlement. A worker may receive basic and additional TRA benefits only during periods of participation in a TAA-approved training program or may continue to receive only basic TRA after completion of a TAA-approved training program.

Retroactive relief is intended to cover all individuals affected between the time the NAFTA-TAA program was implemented and the time the settlement was approved by the Court on September 9, 1996.

8. Reporting Required. The Department is required to report to the UAW on the States' implementation of the settlement. ETA is seeking expedited clearance for this requirement under the Paperwork Reduction Act of 1995. To assist this effort, States must provide the following information to the Department as directed:

a. States must provide to the Office of Trade Adjustment Assistance, by December 31, 1996, either by phone, electronic mail, or in writing, a summary of the number of workers notified of the proposed settlement and the number of workers who have contacted the State agency for eligibility determinations.

b. Beginning with the quarterly reporting period ending December 31, 1996, the States will provide the National Office with quarterly written reports on: The number of people requesting determination or redetermination of entitlement; the number of people determined entitled to relief; and the number of people receiving TRA first payments under this settlement. ETA Form 563 should be used for this purpose.

c. The States are required to continue to report the data described in paragraph b above on a quarterly basis for five additional quarters.

9. Funding. In order to support the States' efforts to comply with the terms of this settlement, the Department will allow the States to request and/or access funds from the following sources:

a. States may use or apply unspent or surplus NAFTA-TAA administration funds to cover the costs of notifying, processing and making referral to training for potentially affected workers.

b. States should report redeterminations on line 5, section C of the UI-3 report. The MPU value is the same as the allocated initial claims MPU.

c. States may, using the ETA form 9023, request special NAFTA-TAA administration funds to pay the costs of upgrading or enhancing their NAFTA-TAA MIS reporting capability systems, including improving the UI interface in order to help contact workers within the stipulated timeframes or to help track and report on benefits and services provided to workers determined eligible for relief.

d. Additional NAFTA-TAA program funds will also be made available to the States through the usual ETA 9023 request form to help States provide NAFTA-TAA training to workers determined eligible for retroactive relief.

10. Action Required.

a. States are required to implement the revised instructions for making individual eligibility determinations for TRA benefits under the NAFTA-TAA program as set forth in these operating instructions and the settlement agreement.

b. States must provide retroactive relief under the settlement to workers who were previously denied, or who would not have qualified for, TRA benefits under the NAFTA-TAA program through the States' use of the previous interpretation of “initial unemployment compensation benefit period” prohibited by the settlement and the Court's decision and order.

c. States should inform all appropriate State staff of the contents of this document and ensure that staff have the necessary resources available to comply with the settlement.

11. Inquiries. States should direct all inquiries to the appropriate ETA Regional Office.

12. Attachment. Draft NAFTA News Release.

Draft NAFTA News Release

Prenote to States: When you issue this release, make sure all references to the “employment service” conform to the name of the responsible agency in your State.

Benefits Extended to More Workers

U.S. Labor Department, Union Reach Agreement on Broader Definition of NAFTA Eligibility

The U.S. Department of Labor and the United Autoworkers Union recently reached agreement on the conditions under which workers may receive benefits under the North American Free Trade Agreement Transitional Adjustment Assistance (NAFTA-TAA) program. The new, broader definition means that more workers will be eligible for income-support payments while they train for new jobs.

The settlement provides that a worker separated from employment for reasons related to trade with Mexico or Canada, or a shift of production to Mexico or Canada, may now be eligible to receive income-support benefits, known as Trade Readjustment Allowances (TRA), if the worker has been certified by the Labor Department and is participating in an approved training program within 16 weeks of the worker's most recent qualifying separation (layoff).

The issue was resolved September 9, 1996, when the United States District Court for the District of Columbia issued preliminary approval, pending a fairness hearing for class members, of a settlement of Baker v. Reich, a case brought by the United Autoworkers Union against the Department of Labor, concerning the definition of eligibility.

The settlement applies to individuals who had been certified for NAFTA-TAA but who were denied TRA benefits because they did not meet an earlier definition of eligibility, which was rejected by the court in June.

State Employment Security Agencies have begun to notify workers certified for NAFTA-TAA that, as a result of the court's action, they may now be eligible to receive TRA benefits if they enroll in vocational training or have completed appropriate training.

Workers who have been certified for NAFTA-TAA have until April 15, 1997, to contact their local Employment Service office for a redetermination of their eligibility for assistance. If a worker is determined to be eligible for benefits under NAFTA, the worker may then receive TRA benefits if he or she is participating in, or has completed, a TAA-approved training program. A worker may have up to 104 weeks from the date of redetermination to collect up to 52 weeks of TRA benefits.

Employment Service offices are listed in the blue pages of the telephone directory under State government. Depending on the State, these offices may also be called the “Job Service” or the “Employment Security Commission.”

U.S. Department of Labor, Employment and Training Administration, Washington, DC 20210

Classification TAA.

Correspondence Symbol: TWT.

Date: July 3, 1997.

Directive: General Administration Letter No. 07-94, Change 3.

To: All State Employment Security Agencies.

From: Robert S. Kenyon, Acting Administrator for Regional Management.

Subject: Trade Adjustment Assistance (TAA) Program, Revised Applicant Processing Procedures.

1. Purpose. To clarify operating instructions issued in GAL 7-94, Change 1 regarding applicant processing procedures for workers certified as eligible to apply for benefits under both subchapters A (the Regular TAA program) and D (the NAFTA-TAA Program), of Chapter II, Title II of the Trade Act of 1974.

2. References. The Trade Act of 1974; 20 CFR part 617; and GAL 7-94 and 7-94, Change 1.

3. Background. In response to inquiries from the States, GAL 7-94, Change 1 provided amended Employment and Training Administration Operating Instructions to the States regarding the delivery of services to any worker who is dual eligible (that is, a worker whose separation is covered by certifications under both the regular Trade and NAFTA-TAA programs). It required States to provide every dual eligible worker, at the point at which they become eligible under the second Trade certification, with the information necessary to make a fully informed choice regarding the Trade program under which they wish to permanently participate. The intent of the GAL was to help the States encourage workers to enter training as quickly as possible after they are initially certified as eligible to receive benefits, regardless of the program under which they are certified.

This GAL amends the applicant processing procedures for States for implementing the amended Employment and Training operating instructions contained in GAL 7-94, Change 1.

4. Operating Instructions. GAL 7-94, Change 1 revised the operating instructions to the States pertaining to Nonduplication of Assistance to read as follows:

The intent of this section is to prevent duplication of assistance to workers who are eligible to receive assistance pursuant to certifications issued under both the regular and NAFTA-TAA programs (dual eligible workers). In order to fairly administer this section, State agency staff must fully explain the difference between programs to dual eligible workers. This will assure that the affected workers are provided with the ability to make a fully informed choice regarding the application of benefits under both programs. A dual eligible worker who has entered, or is otherwise receiving benefits under one program, may elect to switch after being certified as eligible to apply under the second program. Under such circumstances, the State may allow the worker's benefits to continue to be paid by the first program until the first convenient break in training as determined by the State. This approach is currently used with Trade eligible workers who are also enrolled under the Job Training Partnership Act (JTPA) Title III program. In order to minimize the administrative burden on the States, once a decision is made by the worker after becoming eligible for the second program it may not be changed. This election will also stand in the case of a subsequent separation covered by the same two certifications.

5. Revised Applicant Processing. GAL 7-94, Change 1 also revised applicant processing procedures to provide greater flexibility and reduce the administrative burden on the States to serve dislocated workers. States were informed that when a worker receiving benefits under one program elects to switch after becoming eligible for the second program, the State may, as is current practice with Trade eligible workers who are dual enrolled under the JTPA Title III program, allow the workers' benefits to continue to be paid by the first program until the first convenient break (e.g., the end of a semester/quarter) in training as determined by the State. This did not affect the prohibition that, in any event, claimants are never entitled to more than one full round of TAA services and TRA on the basis of the two certifications, nor does this new guidance change this prohibition.

States have recently noted that with the increasing number of workers certified under both programs there may, at some point, be insufficient funding available to provide services to all workers requesting assistance under the regular Trade program. It is estimated that 65-70% of workers certified as eligible for NAFTA-TAA program assistance are also certified eligible for regular Trade program assistance and that a significant number of these NAFTA-TAA eligible workers currently elect to receive services under the regular Trade program.

Therefore, to keep up with this increased demand for regular Trade program related services, States may, where regular Trade program funds are not available (either the State does not have funds in its regular Trade account or has not received requested regular Trade funds from the National Office), use NAFTA-TAA program funds to provide training, job search and relocation services to dual eligible workers. The State may fund such services for dual eligible workers from NAFTA-TAA program funds until regular Trade program funds are available, at the first convenient break in training as determined by the State. For purposes of participant tracking on the 563 report, workers should be counted as a participant in the program from which the funding for their training, job search or relocation services is sourced.

The intent is to allow the States to effectively process the increasing number of NAFTA-impacted workers applying for assistance under the regular TAA program. This will ensure that a worker receives rapid assistance, including placement in training, regardless of the program from which the worker formally elects to receive services.

6. Action Required. State Administrators are requested to:

a. Convey the information in this directive to appropriate staff.

b. Request that Trade program staff review the information and ensure that appropriate arrangements are made with both program and resource allocation staff to implement these revised applicant processing procedures.

c. Encourage appropriate officials to review the present State TAA program funding and benefits delivery system to identify potential problem areas and ensure that regular Trade and NAFTA-TAA program funds are tracked and monitored in accordance with the information provided in this transmittal.

7. Inquiries. Inquiries should be directed to appropriate Regional Offices.

[FR Doc. 04-22920 Filed 10-12-04; 8:45 am]

BILLING CODE 4510-30-U